DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Targeted Capacity Expansion Grants for Jail Diversion Program Evaluation—Additional Trauma Measures—(OMB NO. 0930-0277)—Revision

The Substance Abuse and Mental Health Services Administration's (SAMHSA), Center for Mental Health Services (CMHS) has implemented the Targeted Capacity Expansion Grants for Jail Diversion Programs. The Program currently collects client outcome measures from program participants who agree to participate in the evaluation. Data collection consists of interviews conducted at baseline,6- and 12-month intervals.

The current proposal requests:

1. Adding a new instrument, the PTSD Checklist (PCL), as a measure of trauma-specific symptoms to the baseline, 6- and 12-month interviews.

2. Extending the use of DC Trauma Screen, currently administered only at baseline, to be included in the 6- and 12 month interviews. The DC Trauma Screen examines the prevalence of experience of trauma within general types.

The PCL and the DC Trauma Screen each take 5 minutes to complete. Including these measures would add 5 minutes to the length of the Baseline interview and ten minutes to the length of the 6- and 12-Month interviews.

New grantees were awarded on April 30, 2006 under the TCE Grants for Jail Diversion program and will commence data collection efforts in FY 2007. The following tables summarize the burden for the data collection.

FY 2007 Annual Reporting Burden for the Additional Measures
Data collection activity | Number of respondents | Responses per respondent | Average hours per response | Annual hour burden
Client Interviews:
Baseline Interview | 222 | 1 | .08 | 18
6-month Interview | 180 | 1 | .16 | 29
12-month Interview | 138 | 1 | .16 | 22
Total | 540 | 3 |  | 69

FY 2008 Annual Reporting Burden for the Additional Measures
Data collection activity | Number of respondents | Responses per respondent | Average hours per response | Annual hour burden
Client Interviews:
Baseline Interview | 222 | 1 | .08 | 18
6-month Interview | 180 | 1 | .16 | 29
12-month Interview | 138 | 1 | .16 | 22
Total | 540 | 3 |  | 69

FY 2009 Annual Reporting Burden for the Additional Measures (Calculated Up to the Grant End Date of April 30, 2009)Data Collection activity
Number of respondents | Responses per respondent | Average hours per response | Annual hour burden
Client Interviews:
Baseline Interview | 0 | 1 | .08 | 0
6-month Interview | 10 | 1 | .16 | 2
12-month Interview | 8 | 1 | .16 | 1
Total | 18 | 3 |  | 3

Send comments to Summer King, SAMHSA Reports Clearance Officer, OAS, Room 7-1044, 1 Choke Cherry Road, Rockville, MD 20857. Written comments should be received by October 27, 2006.

Dated: August 18, 2006.
Anna Marsh,
Executive Officer, SAMHSA.

[FR Doc. E6-14243 Filed 8-25-06; 8:45 am]

BILLING CODE 4162-20-P